DEPARTMENT OF COMMERCE

International Trade Administration

[A-570-910]

Circular Welded Carbon-Quality Steel Pipe From the People's Republic of China: Final Results of the Expedited First Sunset Review of the Antidumping Duty Order

AGENCY: Import Administration, International Trade Administration, Department of Commerce.

SUMMARY: On June 3, 2013, the Department of Commerce (“the Department”) initiated the first sunset review of the antidumping duty order on circular welded carbon-quality steel pipe (“CWP”) from the People's Republic of China (“PRC”) pursuant to section 751(c) of the Tariff Act of 1930, as amended (“the Act”). Based on the notice of intent to participate and adequate substantive response filed by the domestic interested party, and the lack of response from any respondent interested party, the Department conducted an expedited (120-day) sunset review of the antidumping duty order on CWP from the PRC, pursuant to section 751(c)(3)(B) of the Act and 19 CFR 351.218(e)(1)(ii)(C)(2). As a result of this sunset review, the Department finds that revocation of the antidumping duty order would be likely to lead to continuation or recurrence of dumping. The magnitude of the dumping margins likely to prevail is indicated in the “Final Results of Sunset Review” section of this notice, infra.

DATES: Effective Date: October 3, 2013.

FOR FURTHER INFORMATION CONTACT: Erin Kearney or Howard Smith, AD/CVD Operations, Office 4, Import Administration, International Trade Administration, U.S. Department of Commerce, 14th Street and Constitution Avenue NW., Washington, DC 20230; telephone: (202) 482-0167 or (202) 482-5193, respectively.

SUPPLEMENTARY INFORMATION:

Background

On July 22, 2008, the Department published the antidumping duty order on CWP from the PRC.¹ On June 3, 2013, the Department published the notice of initiation of the first sunset review of the antidumping duty order on CWP from the PRC, pursuant to section 751(c) of the Act.² Between June 12 and June 18, 2013, pursuant to 19 CFR 351.218(d)(1), the Department received a timely and complete notice of intent to participate in the sunset review from Allied Tube and Conduit, EXLTUBE, JMC Steel Group, Maruichi American Corporation, TMK IPSCO, United States Steel Corporation, and Western Tube & Conduit, domestic producers of CWP. On July 2, 2013, pursuant to 19 CFR 351.218(d)(3), Allied Tube and Conduit, EXLTUBE, JMC Steel Group, Maruichi American Corporation, TMK IPSCO, United States Steel Corporation, and Western Tube & Conduit filed a timely and adequate substantive response. The Department did not receive substantive responses from any respondent interested party. As a result, pursuant to section 751(c)(3)(B) of the Act and 19 CFR 351.218(e)(1)(ii)(C)(2), the Department conducted an expedited (120-day) sunset review of the antidumping duty order on CWP from the PRC.

¹ See Notice of Antidumping Duty Order: Circular Welded Carbon Quality Steel Pipe from the People's Republic of China, 73 FR 42547 (July 22, 2008).

² See Initiation of Five-Year (“Sunset”) Review, 78 FR 33063 (June 3, 2013).

Scope of the Order

The merchandise subject to the order is certain welded carbon quality steel pipes and tubes, of circular cross-section, and with an outside diameter of 0.372 inches (9.45 mm) or more, but not more than 16 inches (406.4 mm), whether or not stenciled, regardless of wall thickness, surface finish (e.g., black, galvanized, or painted), end finish (e.g., plain end, beveled end, grooved, threaded, or threaded and coupled), or industry specification (e.g., ASTM, proprietary, or other), generally known as standard pipe and structural pipe (they may also be referred to as circular, structural, or mechanical tubing).

The pipe products that are the subject of the order are currently classifiable in HTSUS statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the Harmonized Tariff Schedule of the United States (“HTSUS”) classification, is dispositive of whether merchandise imported into the United States falls within the scope of the order.³

³ See Memorandum to Paul Piquado, Assistant Secretary for Import Administration from Christian Marsh, Deputy Assistant Secretary for Antidumping and Countervailing Duty Operations, “Issues and Decision Memorandum for the Expedited First Sunset Review of the Antidumping Duty Order on Circular Welded Carbon-Quality Steel Pipe from the People's Republic of China,” dated concurrently with this notice (“I&D Memorandum”), for full scope language.

Analysis of Comments Received

A complete discussion of all issues raised in this sunset review is provided in the accompanying I&D Memorandum, which is hereby adopted by this notice. The issues discussed in the I&D Memorandum include the likelihood of continuation or recurrence of dumping and the magnitude of the margins likely to prevail if the order is revoked. The I&D Memorandum is a public document and is on file electronically via Import Administration's Antidumping and Countervailing Duty Centralized Electronic Service System (“IA ACCESS”). Access to IA ACCESS is available in the Central Records Unit (“CRU”), room 7046 of the main Department of Commerce building. In addition, a complete version of the I&D Memorandum can be accessed directly on the internet at http://www.trade.gov/ia/. The signed I&D Memorandum and the electronic versions of the I&D Memorandum are identical in content.

Final Results of Sunset Review:

The Department determines that revocation of the antidumping duty order on CWP from the PRC would be likely to lead to continuation or recurrence of dumping at the following weighted-average percentage margins: ⁴

⁴ These margins were from the order of the original investigation, as modified by the section 129 determination. See Notice of Antidumping Duty Order: Circular Welded Carbon Quality Steel Pipe from the People's Republic of China, 73 FR 42547 (July 22, 2008); Correction to Notice of Implementation of Determinations Under Section 129 of the Uruguay Round Agreements Act: Circular Welded Carbon Quality Steel Pipe from the People's Republic of China, 77 FR 65672 (October 30, 2012).

Exporter | Producer | Weighted- average percentage margin
Beijing Sai Lin Ke Hardware Co., Ltd | Xuzhou Guang Huan Steel Tube Products Co., Ltd | 45.35
Wuxi Fastube Industry Co., Ltd | Wuxi Fastube Industry Co., Ltd | 45.35
Jiangsu Guoqiang Zinc-Plating Industrial Co., Ltd | Jiangsu Guoqiang Zinc-Plating Industrial Co., Ltd | 45.35
Wuxi Eric Steel Pipe Co., Ltd | Wuxi Eric Steel Pipe Co., Ltd | 45.35
Qingdao Xiangxing Steel Pipe Co., Ltd | Qingdao Xiangxing Steel Pipe Co., Ltd | 45.35
Wah Cit Enterprises | Guangdong Walsall Steel Pipe Industrial Co., Ltd | 45.35
Guangdong Walsall Steel Pipe Industrial Co., Ltd | Guangdong Walsall Steel Pipe Industrial Co., Ltd | 45.35
Hengshui Jinghua Steel Pipe Co., Ltd | Hengshui Jinghua Steel Pipe Co., Ltd | 45.35
Zhangjiagang Zhongyuan Pipe-Making Co, Ltd | Zhangjiagang Zhongyuan Pipe-Making Co., Ltd | 45.35
Weifang East Steel Pipe Co., Ltd | Weifang East Steel Pipe Co., Ltd | 45.35
Shijiazhuang Zhongqing Imp & Exp Co., Ltd | Bazhou Zhuofa Steel Pipe Co., Ltd | 45.35
Tianjin Baolai Int'l Trade Co., Ltd | Tianjin Jinghai County Baolai Business and Industry Co., Ltd | 45.35
Wai Ming (Tianjin) Int'l Trading Co., Ltd | Bazhou Dong Sheng Hot-dipped Galvanized Steel Pipes Co., Ltd | 45.35
Kunshan Lets Win Steel Machinery Co., Ltd | Kunshan Lets Win Steel Machinery Co., Ltd | 45.35
Shenyang Boyu M/E Co., Ltd | Bazhou Dong Sheng Hot-dipped Galvanized Steel Pipes Co., Ltd | 45.35
Dalian Brollo Steel Tubes Ltd | Dalian Brollo Steel Tubes Ltd | 45.35
Benxi Northern Pipes Co., Ltd | Benxi Northern Pipes Co., Ltd | 45.35
Shanghai Metals & Minerals Import & Export Corp | Huludao Steel Pipe Industrial Co | 45.35
Shanghai Metals & Minerals Import & Export Corp | Benxi Northern Pipes Co., Ltd | 45.35
Huludao Steel Pipe Industrial Co | Huludao Steel Pipe Industrial Co | 45.35
Tianjin Xingyuda Import & Export Co., Ltd | Tianjin Lifengyuanda Steel Group | 45.35
Tianjin Xingyuda Import & Export Co., Ltd | Tianjin Xingyunda Steel Pipe Co | 45.35
Tianjin Xingyuda Import & Export Co., Ltd | Tianjin Lituo Steel Products Co | 45.35
Tianjin Xingyuda Import & Export Co., Ltd | Tangshan Fengnan District Xinlida Steel Pipe Co., Ltd | 45.35
Jiangyin Jianye Metal Products Co., Ltd | Jiangyin Jianye Metal Products Co., Ltd | 45.35
Rizhao Xingye Import & Export Co., Ltd | Shandong Xinyuan Group Co., Ltd | 45.35
Tianjin No. 1 Steel Rolled Co., Ltd | Tianjin Hexing Steel Co., Ltd | 45.35
Tianjin No. 1 Steel Rolled Co., Ltd | Tianjin Ruitong Steel Co., Ltd | 45.35
Tianjin No. 1 Steel Rolled Co., Ltd | Tianjin Yayi Industrial Co | 45.35
Kunshan Hongyuan Machinery Manufacture Co., Ltd | Kunshan Hongyuan Machinery Manufacture Co., Ltd | 45.35
Qingdao Yongjie Import & Export Co., Ltd | Shandong Xinyuan Group Co., Ltd | 45.35
PRC-Wide Entity |  | 68.24

Notification Regarding Administrative Protective Order

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: September 26, 2013.
Paul Piquado,
Assistant Secretary for Import Administration.

Appendix—List of Topics Discussed in the Issues and Decision Memorandum

1. Likelihood of continuation or recurrence of dumping; and

2. Magnitude of the dumping margin likely to prevail.

[FR Doc. 2013-24285 Filed 10-2-13; 8:45 am]

BILLING CODE 3510-DS-P